Proclamation 9512 of September 30, 2016

National Youth Justice Awareness Month, 2016

By the President of the United States of America

A Proclamation

The essential promise that we make to our young people—that where they start must not determine how far they can go—is part of what makes America exceptional. It is our shared responsibility to ensure all children are given a fair shot at life, including a quality education and equal opportunities to pursue their dreams. Too often in America, young people are not afforded a second chance after having made a mistake or poor decision—the kind of chance some of their peers receive under more forgiving environments. Many of these young people lack institutional or family support and live in distressed communities. Others may have experienced trauma and violence or may struggle with disabilities, mental health issues, or substance use disorders. As a society, we must strive to reach these children earlier in life and modernize our juvenile and criminal justice systems to hold youth accountable for their actions without consigning them to a life on the margins. During National Youth Justice Awareness Month, we reaffirm our commitment to helping children of every background become successful and engaged citizens.

While the number of juvenile arrests have fallen sharply over the past decade, roughly 1 million juvenile arrests were made in 2014. An overwhelming majority of these arrests were for non-violent crimes, and nearly three-quarters of those arrested were male. Children of color, particularly black and Hispanic males and Native American youth, continue to be overrepresented across all levels of the juvenile justice system. Unfortunately, far too many youth become involved with the adult criminal justice system each year—including in several States where 17-year-olds are prosecuted as adults regardless of their crime, and two where 16-year-olds are as well. Children in the adult system have less access to rehabilitative services and often face higher recidivism and suicide rates. Some States have recently raised the age so that 16- and 17-year-olds are not unnecessarily tried in adult courts, and many are reforming sentencing laws and expanding access to age-appropriate transition services upon reentry.

Even for those youth who were never convicted or otherwise found guilty, simply having had contact with our justice system can lead to lifelong barriers and an increased likelihood of ending up in a cycle of incarceration. To help break this cycle, my Administration increased funding for expunging juvenile records and took steps to ensure young people in juvenile and adult justice facilities can receive Pell Grants to pursue a quality education. The White House launched the Fair Chance Pledge to highlight employers and institutions of higher education that have committed to reducing barriers that justice-involved youth often face in accessing employment, training, and education. To build on these efforts, the Congress must reauthorize the Juvenile Justice and Delinquency Prevention Act (JJDPA) to increase protections for youth and limit the number of minors held in adult jails and prisons. Reauthorizing the JJDPA will promote evidence-based practices, quality education, and trauma-informed care for incarcerated youth, while reducing punishments for things such as breaking curfew and truancy.

We have also seen too many of our youth held in solitary confinement while incarcerated, which can lead to devastating, long-term psychological consequences. Earlier this year, my Administration took steps to implement reforms that include banning this harmful practice for juveniles under the custody of the Federal Bureau of Prisons. We must ensure that young people have quality legal representation throughout every stage of the legal process as well as age-appropriate and rehabilitative sentencing and placements. The financial costs of the juvenile court system can be debilitating and can unfairly penalize children from poor families—by reducing the fees and fines imposed on youth, we can avoid pushing families into debt and decrease this disproportionate burden.

To meet these goals, we must engage young people before they find themselves locked into a path from which they cannot escape. The Departments of Justice and Education created the Supportive School Discipline Initiative to incentivize positive school climates and rethink discipline policies to foster safer and more supportive learning environments. They are also working to assist States, schools, and law enforcement partners in assessing the proper role of school resource officers and campus law enforcement professionals. The Departments of Justice and Health and Human Services released a joint policy statement against the use of suspension and expulsion in preschool settings—which disproportionately affect children of color. As part of the Office of Juvenile Justice and Delinquency Prevention's Smart on Juvenile Justice initiative, we are providing services such as job training and substance use disorder treatment and counseling for youth in juvenile facilities, and we are expanding the use of effective community-based alternatives to youth detention. We are also screening youth for exposure to trauma that can put them at greater risk of entering the juvenile justice system. And through the My Brother's Keeper initiative, we are working to address persistent opportunity gaps and ensure all young people can reach their full potential—including by helping them get a healthy start in life, enter school ready to learn, and successfully enter the workforce.

When we invest in our children and redirect young people who have made misguided decisions, we can reduce our over-reliance on the juvenile and criminal justice systems and build stronger pathways to opportunity. In addition, for every dollar we put into high-quality early childhood education, we save at least twice that down the road in reduced crime. That is why my Administration has sought to expand high-quality early education by increasing funding for programs like Head Start and investing in preschool, child care, and evidence-based home visiting. Investing in our communities and our kids makes sense, and if we recognize that every child deserves to remain connected to their families and communities, we can ensure youth who come in contact with the law can have a chance at a brighter future.

This month, we come together to ensure all young people are supported, nurtured, and provided an opportunity to succeed. We must make sure youth in every community and from every walk of life can be known for more than their worst mistakes. With enhanced possibilities, a sense of optimism, and an open mind, they can all thrive and live up to the full measure of their promise.

NOW, THEREFORE, I, BARACK OBAMA, President of the United States of America, by virtue of the authority vested in me by the Constitution and the laws of the United States, do hereby proclaim October 2016 as National Youth Justice Awareness Month. I call upon all Americans to observe this month by taking action to support our youth and by participating in appropriate ceremonies, activities, and programs in their communities.

IN WITNESS WHEREOF, I have hereunto set my hand this thirtieth day of September, in the year of our Lord two thousand sixteen, and of the Independence of the United States of America the two hundred and forty-first.

[FR Doc. 2016-24368

Filed 10-5-16; 8:45 am]

Billing code 3295-F7-P